DEPARTMENT OF LABOR

Employment and Training Administration

[TA-W-60,491]

Hipwell Manufacturing Co., Pittsburgh, PA; Notice of Termination of Investigation

Pursuant to Section 221 of the Trade Act of 1974, as amended, an investigation was initiated on November 28, 2006, in response to a petition filed on behalf of workers at Hipwell Manufacturing Co., Pittsburgh, Pennsylvania.

The petition dated November 27, 2006 regarding the investigation has been deemed invalid. In order for employees to establish a valid petition, there must be at least three petitioners that were terminated no more than one year from the petition date. On further review, it became apparent that one petitioner was terminated on August 12, 2005, more than one year from the date on the petition. Consequently, the investigation has been terminated.

Dated: December 1, 2006.
Elliott S. Kushner,
Certifying Officer, Division of Trade Adjustment Assistance.

[FR Doc. E6-20840 Filed 12-7-06; 8:45 am]

BILLING CODE 4510-30-P